DEPARTMENT OF STATE

[Public Notice No. 3230]

Renewal of Defense Trade Advisory Group Charter

The Charter of the Defense Trade Advisory Group (DTAG) is being renewed for a two-year period. The membership of this advisory committee consists of private sector defense trade specialists appointed by the Assistant Secretary of State for Political-Military Affairs who advise the Department on policies, regulations, and technical issues affecting defense trade.

FOR FURTHER INFORMATION CONTACT: Mike Slack, DTAG Secretariat, U.S. Department of State, Office of Regional Security and Arms Transfer Policy (PM/RSAT), Room 7424 Main State, Washington, D.C. 20520-2422. Phone: (202) 647-2882, Fax: (202) 647-9779.

Dated: February 28, 2000.
Gregory M. Suchan,
Executive Secretary, Defense Trade Advisory Group, Department of State.

[FR Doc. 00-5352 Filed 3-3-00; 8:45 am]

BILLING CODE 4710-25-U